DEPARTMENT OF TRANSPORTATION

Federal Aviation Administration

14 CFR Part 39

[Docket No. FAA-2016-5596; Directorate Identifier 2015-NM-121-AD; Amendment 39-18677; AD 2016-20-11]

RIN 2120-AA64

Airworthiness Directives; Airbus Airplanes

AGENCY: Federal Aviation Administration (FAA), Department of Transportation (DOT).

ACTION: Final rule.

SUMMARY: We are superseding Airworthiness Directive (AD) 2014-12-06 for certain Airbus Model A300 B4-600, B4-600R, and F4-600R series airplanes, and Model A300 C4-605R Variant F airplanes (collectively called Model A300-600 series airplanes); and Airbus Model A310 series airplanes. AD 2014-12-06 required repetitive ultrasonic or detailed inspections of the external area of the aft cargo door sill beam for cracking, and repair if necessary, and provided an optional one-time high frequency eddy current (HFEC) inspection that would terminate the repetitive inspections. This new AD requires the previously optional terminating HFEC inspection, and requires that it be done repetitively. This AD was prompted by findings of multiple fatigue cracks in the aft cargo door that indicated the need for additional, repetitive, HFEC inspections. We are issuing this AD to address the unsafe condition on these products.

DATES: This AD is effective January 3, 2017.

The Director of the Federal Register approved the incorporation by reference of certain publications listed in this AD as of January 3, 2017.

The Director of the Federal Register approved the incorporation by reference of a certain other publication listed in this AD as of July 2, 2014 (79 FR 34403, June 17, 2014).

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-5596.

Examining the AD Docket

You may examine the AD docket on the Internet at http://www.regulations.gov by searching for and locating Docket No. FAA-2016-5596, or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2014-12-06, Amendment 39-17867 (79 FR 34403, June 17, 2014) (“AD 2014-12-06”). AD 2014-12-06 applied to certain Airbus Model A300 B4-600, B4-600R, and F4-600R series airplanes, and Model A300 C4-605R Variant F airplanes (collectively called Model A300-600 series airplanes); and Airbus Model A310 series airplanes. AD 2014-12-06 required repetitive ultrasonic or detailed inspections of the external area of the aft cargo door sill beam for cracking, and repair if necessary. AD 2014-12-16 also provided an optional one-time HFEC inspection that would terminate the repetitive inspections. The NPRM published in the Federal Register on April 27, 2016 (81 FR 24745). The NPRM was prompted by findings of multiple fatigue cracks in the aft cargo door that indicated the need for repetitive HFEC inspections. The NPRM proposed to continue to require repetitive ultrasonic or detailed inspections of the external area of the aft cargo door sill beam for cracking, and repair if necessary. The NPRM also proposed to require the previously optional terminating HFEC inspection, and to require that it be done repetitively. We are issuing this AD to detect and correct fatigue cracking of the cargo door sill beam, lock fitting, and torsion box plate. Failure of one or more of these components could result in the loss of the door locking function and, subsequently, complete loss of the cargo door in flight with the risk of rapid decompression.

The European Aviation Safety Agency (EASA), which is the Technical Agent for the Member States of the European Union, has issued EASA Airworthiness Directive 2015-0150, dated July 23, 2015 (referred to after this as the Mandatory Continuing Airworthiness Information, or “the MCAI”), to correct an unsafe condition for certain Airbus Model A300 B4-600, B4-600R, and F4-600R series airplanes, and Model A300 C4-605R Variant F airplanes (collectively called Model A300-600 series airplanes); and Airbus Model A310 series airplanes. The MCAI states:

During accomplishment of Maintenance Review Board Report (MRBR) task 531625-01-1 on an A300-600 aeroplane having accumulated more than 25,000 flight cycles (FC) since aeroplane first flight, multiple fatigue cracks were found on the following parts:

—Aft cargo door sill beam Part Number (P/N) A53973085210.

—Lock fitting P/N A53978239002.

—Torsion box plate P/N A53973318206.

Prompted by these findings, a stress analysis was performed during which it was discovered that there is no dedicated scheduled maintenance task to inspect the affected area for fatigue damage.

This condition, if not detected and corrected, could lead to failure of multiple lock fittings, possibly resulting in loss of the cargo door in flight and consequent explosive decompression of the aeroplane.

To address this unsafe condition, Airbus issued Alert Operators Transmission (AOT) A53W005-14 providing instructions for inspection of the affected area.

Consequently, EASA issued Emergency AD 2014-0097-E [which corresponded to FAA AD 2014-12-06] to require repetitive ultrasonic (US) inspections or detailed inspections (DET) of the aft cargo door sill beam external area, and/or a one-time High Frequency Eddy Current (HFEC) inspection of the aft cargo door sill beam internal structure and, depending on findings, accomplishment of corrective action(s).

Since that [EASA] AD was issued, the results of further analysis have indicated that repetitive HFEC inspections need to be introduced.

For the reasons described above, this [EASA] AD retains the requirements of EASA AD 2014-0097-E, which is superseded, and requires repetitive HFEC inspections of the concerned areas. The first HFEC inspection terminates the repetitive US/DET inspections.

You may examine the MCAI in the AD docket on the Internet at http://www.regulations.gov by searching for and locating Docket No. FAA-2016-5596.

Comments

We gave the public the opportunity to participate in developing this AD. The following presents the comments received on the NPRM and the FAA's response to each comment.

Support for the NPRM

The Air Line Pilots Association, International stated that it supports the NPRM.

Request To Rewrite Reporting Requirements

One commenter, Mark Hilborn, requested that we revise the structure of paragraph (i) of the proposed AD for clarity and to change the location where the reports should be sent. He stated that we could rewrite paragraph (i) of the proposed AD to remove the subparagraphs.

We partially agree with the request. We have updated the contact information for submitting the reports. We do not find it necessary, however, to change the remainder of the paragraph since it is restated from AD 2014-12-06, and the compliance times are correct.

Request To Clarify the Terminating Actions

Mark Hilborn requested we revise paragraph (m) of the proposed AD for clarity and to add new subparagraphs to aid in that.

We agree with the request and have changed paragraph (m) of this AD accordingly.

Additional Changes Made in This Final Rule

We have revised this AD to require the current version of the service information identified for the terminating action specified in this AD. This service information was revised to make a small tooling change; no additional work is necessary for airplanes on which the original version of this service information was accomplished. We have also added credit for airplanes on which the original version of this service information was accomplished, and made related changes accordingly.

Conclusion

We reviewed the available data, including the comments received, and determined that air safety and the public interest require adopting this AD with the changes described previously and minor editorial changes. We have determined that these changes:

• Are consistent with the intent that was proposed in the NPRM for correcting the unsafe condition; and

• Do not add any additional burden upon the public than was already proposed in the NPRM.

Related Service Information Under 1 CFR Part 51

Airbus has issued the following service information, which describes procedures for repetitive HFEC inspections of the cargo door sill beam, lock fitting, and torsion box plate. These service bulletins are distinct since they apply to different airplane models.

• Airbus Service Bulletin A300-53-6179, dated December 12, 2014.

• Airbus Service Bulletin A310-53-2139, dated December 12, 2014.

Airbus has also issued AOT A53W005-14, Revision 01, dated April 29, 2014, which describes procedures for doing an ultrasonic inspection or detailed inspection of the aft cargo door sill beam external area for cracking.

Additionally, Airbus has issued the following service information, which describes procedures for reinforcing the aft cargo door sill beam are between FR 60 and FR 63. These service bulletins are distinct since they apply to different airplane models.

• Airbus Service Bulletin A310-53-2141, Revision 01, dated July 2, 2015.

• Airbus Service Bulletin A300-53-6181, Revision 01, dated July 2, 2015.

This service information is reasonably available because the interested parties have access to it through their normal course of business or by the means identified in the ADDRESSES section.

Costs of Compliance

We estimate that this AD affects 75 airplanes of U.S. registry.

We estimate the following costs to comply with this AD:

Estimated Costs
Action | Labor cost | Parts cost | Cost per product | Cost on U.S. operators
Inspection | 12 work-hours × $85 per hour = $1,020 per inspection cycle | N/A | $1,020 per inspection cycle | $76,500 per inspection cycle.
Reporting | 1 work-hour × $85 per hour = $85 per inspection cycle | N/A | $85 | $6,375.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing AD 2014-12-06, Amendment 39-17867 (79 FR 34403, June 17, 2014), and adding the following new AD:

2016-20-11 Airbus: Amendment 39-18677; Docket No. FAA-2016-5596; Directorate Identifier 2015-NM-121-AD.

(a) Effective Date

This AD is effective January 3, 2017.

(b) Affected ADs

This AD replaces AD 2014-12-06, Amendment 39-17867 (79 FR 34403, June 17, 2014) (“AD 2014-12-06”).

(c) Applicability

This AD applies to the airplanes identified in paragraphs (c)(1), (c)(2), (c)(3), (c)(4), and (c)(5) of this AD, certificated in any category, all manufacturer serial numbers on which Airbus Modification 05438 has been embodied in production, except those on which Airbus Modification 12046 has been embodied in production.

(1) Airbus Model A300 B4-601, B4-603, B4-620, and B4-622 airplanes.

(2) Airbus Model A300 B4-605R and B4-622R airplanes.

(3) Airbus Model A300 F4-605R and F4-622R airplanes.

(4) Airbus Model A300 C4-605R Variant F airplanes.

(5) Airbus Model A310-203, -204, -221, -222, -304, -322, -324, and -325 airplanes.

(d) Subject

Air Transport Association (ATA) of America Code 53, Fuselage.

(e) Reason

This AD was prompted by reports of fatigue cracks on the cargo door sill beam, lock fitting, and torsion box plate. We are issuing this AD to detect and correct fatigue cracking of the cargo door sill beam, lock fitting, and torsion box plate, which could result in the loss of the door locking function and subsequently, complete loss of the cargo door in flight with the risk of rapid decompression.

(f) Compliance

Comply with this AD within the compliance times specified, unless already done.

(g) Retained Inspection, With Revised Service Information

This paragraph restates the requirements of paragraph (g)(1) of AD 2014-12-06, with revised service information. Within the compliance time identified in paragraph (g)(1), (g)(2), or (g)(3) of this AD, as applicable: Do an ultrasonic inspection or detailed inspection of the aft cargo door sill beam external area for cracking, in accordance with Airbus Alert Operators Transmission (AOT) A53W005-14, dated April 22, 2014; or Airbus AOT A53W005-14, Revision 01, dated April 29, 2014. Repeat the inspection thereafter at intervals not to exceed 275 flight cycles. As of the effective date of this AD, only Airbus AOT A53W005-14, Revision 01, dated April 29, 2014, may be used to comply with the requirements of this paragraph.

(1) For airplanes that have accumulated 30,000 flight cycles or more since the airplane's first flight as of July 2, 2014 (the effective date of AD 2014-12-06): Within 50 flight cycles after July 2, 2014.

(2) For airplanes that have accumulated 18,000 flight cycles or more, but fewer than 30,000 flight cycles since the airplane's first flight as of July 2, 2014 (the effective date of AD 2014-12-06): Within 275 flight cycles after July 2, 2014.

(3) For airplanes that have accumulated fewer than 18,000 flight cycles since the airplane's first flight as of July 2, 2014 (the effective date of AD 2014-12-06): Before exceeding 18,275 flight cycles since the airplane's first flight.

(h) Retained Optional Terminating Action, With Revised Service Information and Specific Delegation Approval Language

This paragraph restates the provisions of paragraph (h) of AD 2014-12-06, with revised service information and specific delegation approval language. Accomplishment of a high frequency eddy current (HFEC) inspection for cracking, in accordance with Airbus AOT A53W005-14, dated April 22, 2014; or Airbus AOT A53W005-14, Revision 01, dated April 29, 2014; terminates the repetitive inspections required by paragraph (g) of this AD for that airplane. If any cracking is found during the HFEC inspection, before further flight, repair using a method approved by the Manager, International Branch, ANM-116, Transport Airplane Directorate, FAA; or the European Aviation Safety Agency (EASA); or Airbus's EASA Design Organization Approval (DOA).

(i) Retained Reporting Requirement, With Revised Contact Information

This paragraph restates the provisions of paragraph (i) of AD 2014-12-06, with revised contact information. Submit a report of the findings (both positive and negative) of the inspection required by paragraph (g) of this AD to “Airbus Service Bulletin Reporting Online Application” on Airbus World (https://w3.airbus.com/), at the applicable time specified in paragraph (i)(1) or (i)(2) of this AD. The report must include the inspection results, including no findings.

(1) If the inspection was done on or after the effective date of this AD: Submit the report within 30 days after the inspection.

(2) If the inspection was done before the effective date of this AD: Submit the report within 30 days after the effective date of this AD.

(j) Definition of Airplane Groups

Paragraphs (k)(1), (k)(2), and (k)(3) of this AD refer to airplane groups, as identified in paragraphs (j)(1), (j)(2), and (j)(3) of this AD.

(1) Airplanes on which an HFEC inspection was accomplished as specified in Airbus AOT A53W005-14.

(2) Airplanes on which no HFEC inspection was accomplished as specified in Airbus AOT A53W005-14, and that have accumulated more than 18,000 total flight cycles as of the effective date of this AD.

(3) Airplanes on which no HFEC inspection was accomplished as specified in Airbus AOT A53W005-14, that have accumulated 18,000 total flight cycles or fewer as of the effective date of this AD.

(k) New Repetitive HFEC Inspections and Repair

At the applicable time specified in paragraph (k)(1), (k)(2), or (k)(3) of this AD: Do an HFEC inspection for fatigue cracking of the cargo door sill beam, lock fitting, and torsion box plate, in accordance with Airbus Service Bulletin A300-53-6179, dated December 12, 2014; or Airbus Service Bulletin A310-53-2139, dated December 12, 2014; as applicable. Repeat the HFEC inspection thereafter at intervals not to exceed 4,600 flight cycles.

(1) For airplanes identified in paragraph (j)(1) of this AD: Inspect within 4,600 flight cycles after the most recent HFEC inspection specified in Airbus AOT A53W005-14.

(2) For airplanes identified in paragraph (j)(2) of this AD: Inspect within 2,000 flight cycles after the effective date of this AD.

(3) For airplanes identified in paragraph (j)(3) of this AD: Inspect before exceeding 13,000 total flight cycles since the airplane's first flight, or within 2,000 flight cycles after the effective date of this AD, whichever occurs later.

(l) Corrective Action

If any crack is found during any inspection required by paragraph (g) or (k) of this AD: Before further flight, repair using a method approved by the Manager, International Branch, ANM-116, Transport Airplane Directorate, FAA; or the EASA; or Airbus's EASA DOA.

(m) Terminating Action for Repetitive Inspections

This paragraph identifies the requirements to terminate repetitive inspections mandated by this AD.

(1) For any airplane identified in paragraphs (j)(2) and (j)(3) of this AD, accomplishment of the initial inspection required by paragraph (k) of this AD terminates the repetitive inspections required by paragraph (g) of this AD.

(2) For any airplane identified in paragraphs (c)(1) through (c)(5) of this AD, accomplishment of Airbus Service Bulletin A310-53-2141, Revision 01, dated July 2, 2015; or Airbus Service Bulletin A300-53-6181, Revision 01, dated July 2, 2015; as applicable; terminates the repetitive inspections required by paragraph (k) of this AD.

(n) Credit for Previous Actions

This paragraph provides credit for actions provided in paragraph (m)(2) of this AD, if those actions were performed before the effective date of this AD using Airbus Service Bulletin A300-53-6181, dated June 26, 2015; or Airbus Service Bulletin A310-53-2141, dated June 26, 2015; as applicable.

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(4) Required for Compliance (RC): Except as required by paragraph (l) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(p) Related Information

(1) Refer to Mandatory Continuing Airworthiness Information (MCAI) EASA Airworthiness Directive 2015-0150, dated July 23, 2015, for related information. This MCAI may be found in the AD docket on the Internet at http://www.regulations.gov by searching for and locating Docket No. FAA-2016-5596.

(2) Service information identified in this AD that is not incorporated by reference is available at the addresses specified in paragraphs (q)(5) and (q)(6) of this AD.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on January 3, 2017.

(i) Airbus Alert Operators Transmission (AOT) A53W005-14, Revision 01, dated April 29, 2014.

(ii) Airbus Service Bulletin A310-53-2141, Revision 01, dated July 2, 2015.

(iii) Airbus Service Bulletin A300-53-6179, dated December 12, 2014.

(iv) Airbus Service Bulletin A300-53-6181, Revision 01, dated July 2, 2015.

(v) Airbus Service Bulletin A310-53-2139, dated December 12, 2014.

(4) The following service information was approved for IBR on July 2, 2014 (79 FR 34403, June 17, 2014).

(i) Airbus AOT A53W005-14, dated April 22, 2014.

(ii) Reserved.

(5) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on September 28, 2016.
Dionne Palermo,
Acting Manager, Transport Airplane Directorate, Aircraft Certification Service.

[FR Doc. 2016-28335 Filed 11-28-16; 8:45 am]

BILLING CODE 4910-13-P